DEPARTMENT OF AGRICULTURE

Forest Service

Whitetail-Pipestone Travel Management Project, Beaverhead-Deerlodge National Forest, Jefferson and Silver Bow Counties, MT

AGENCY: Forest Service, USDA.

ACTION: Notice; intent to prepare an environmental impact statement.

SUMMARY: The Forest Service will prepare an environmental impact statement to document the analysis and disclose the environmental impacts of a proposed action to develop a travel and access management plan for the Whitetail-Pipestone area. The project area is located on National Forest System lands east of Interstate 15 from Butte to Boulder, southwest of Highway 69 to Hadley Park road, west and north of the Hadley Park Road over the Bull Mountain range to the Whitetail Road, west of the Whitetail Road to Whitehall, and north of Montana Highway 2 from Whitehall to Butte.

The decision to be made is to define the appropriate road and trail systems and the type of uses on them.

DATES: Initial comments concerning the scope of the analysis should be received in writing no later than march 15, 2004.

ADDRESSES: The responsible official is Forest Supervisor Thomas K. Reilly, Beaverhead-Deerlodge National Forest, Dillon, Montana. Please send comments to Eric Tolf, 3 Whitetail Road, Whitehall, MT 59759. Comments may be electronically submitted to comments-northern-beaverhead-deerlodge-jefferson@fs.fed.us.

FOR FURTHER INFORMATION CONTACT: Eric Tolf, project leader, 3 Whitetail Road, Whitehall, MT 59759, or phone (406) 287-3223, or by email to etolf@fs.fed.us.

SUPPLEMENTARY INFORMATION: The purpose of this action is to define a transportation system (roads and trails) to provide a variety of motorized and non-motorized recreation opportunities. A condition of this transportation system is that it can be properly maintained.

The project area is located in T. 2 N.-T. 5 N., R 7 W.-R. 4 W. The scope of this proposal is limited to access and travel management actions to accomplish the purpose and need.

Public participation is important to this analysis. Part of the goal of public involvement is to identify additional issues and to refine the general, tentative issues. A scoping notice describing the proposal will be mailed to those who request information on these types of activities on the Beaverhead-Deerlodge National Forests. Preliminary issues identified by the Forest Service include:

(1) Motorized and non-motorized recreation—the existing transportation system does not provide for a mix of quality recreational experiences for both motorized and non-motorized users.

(2) Road and trail safety—safety concerns exist along roads utilized by both full-sized vehicles and off-highway vehicles, and hazards on low standard roads and trails.

The analysis will consider all reasonably foreseeable activities. The interdisciplinary team has not yet developed alternatives to the proposed action. Alternatives will be developed based on the key issues identified through scoping.

People may visit with Forest Service officials at any time during the analysis and prior to the decision. Two periods are specifically designated for comments on the analysis: (1) During the scoping process, and (2) during the draft EIS period.

During the scoping process, the Forest Service seeks additional information and comments from individuals organization that may be interested in or affected by the proposed action, and Federal, State and local agencies. The Forest Service invites written comments and suggestions on this action, particularly in terms of identification of issues and alternative development.

The draft EIS is anticipated to be available for review in May 2004. The final EIS is planned for completion in December 2004.

The Environmental Protection Agency will publish the Notice of Availability of the draft Environmental Impact Statement in the Federal Register. The Forest will also publish a Legal Notice of its availability in the Montana Standard Newspaper, Butte, Montana, A 45-day comment period on the draft environmental impact statement will begin the day following the date of publication of the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in the Record of Decision.

Dated: February 3, 2004.
Thomas K. Reilly,
Forest Supervisor.

[FR Doc. 04-2775 Filed 2-9-04; 8:45 am]

BILLING CODE 3410-11-M